ENVIRONMENTAL PROTECTION AGENCY

[EPA-HQ-OPPT-2012-0881; FRL-9373-1]

Certain New Chemicals; Receipt and Status Information

AGENCY: Environmental Protection Agency (EPA).

ACTION: Notice.

SUMMARY: The Toxic Substances Control Act (TSCA) requires any person who intends to manufacture (defined by statute to include import) a new chemical (i.e., a chemical not on the TSCA Chemical Substances Inventory (TSCA Inventory)) to notify EPA and comply with the statutory provisions pertaining to the manufacture of new chemicals. In addition under TSCA, EPA is required to publish in the Federal Register a notice of receipt of a premanufacture notice (PMN) or an application for a test marketing exemption (TME), and to publish in the Federal Register periodic status reports on the new chemicals under review and the receipt of notices of commencement (NOC) to manufacture those chemicals. This document, which covers the period from November 1, 2012 to November 30, 2012, and provides the required notice and status report, consists of the PMNs and TMEs, both pending or expired, and the NOC to manufacture a new chemical that the Agency has received under TSCA section 5 during this time period.

DATES: Comments identified by the specific PMN number or TME number, must be received on or before January 25, 2013.

ADDRESSES: Submit your comments, identified by docket identification (ID) number EPA-HQ-OPPT-2012-0881, and the specific PMN number or TME number for the chemical related to your comment, by one of the following methods:

• Federal eRulemaking Portal: http://www.regulations.gov. Follow the online instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. The DCO is open from 8 a.m. to 4 p.m., Monday through Friday, excluding legal holidays. The telephone number for the DCO is (202) 564-8930. Such deliveries are only accepted during the DCO's normal hours of operation, and special arrangements should be made for deliveries of boxed information.

Instructions: EPA's policy is that all comments received will be included in the docket without change and may be made available online at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7407M), Office of Pollution Prevention and Toxics, Environmental Protection Agency, 1200 Pennsylvania Ave., NW., Washington, DC 20460-0001; telephone number: (202) 564-8955; fax number: (202) 564-8951; email address: mudd.bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this action?

EPA classifies a chemical substance as either an “existing” chemical or a “new” chemical. Any chemical substance that is not on EPA's TSCA Inventory is classified as a “new chemical,” while those that are on the TSCA Inventory are classified as an “existing chemical.” For more information about the TSCA Inventory go to http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals. This status report, which covers the period from November 1, 2012 to November 30, 2012, consists of the PMNs and TMEs, both pending or expired, and the NOCs to manufacture a new chemical that the Agency has received under TSCA section 5 during this time period.

III. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—55 PMNs Received From 11/1/2012 to 11/30/12
Case No. | Received date | Projected notice end date | Manufacturer/importer | Use | Chemical
P-13-0082 | 11/2/2012 | 1/30/2013 | Henkel Corp. | (S) Hotmelt adhesive for panel lamination and other assemblies | (G) Acrylic modified polyether-ester polyurethane prepolymer.
P-13-0083 | 11/1/2012 | 1/29/2013 | CBI | (S) Coatings additive | (G) Epoxysilane homopolymer.
P-13-0090 | 11/1/2012 | 1/29/2013 | Cytec Industries, Inc. | (G) Resin for non-dispersive use | (G) Alkenenitrile, polymer with alkadiene, substituted alkyl-terminated, polymers with substituted carbonomocycles, alkoxy-terminated-substituted alkyl-alkadiene polymer, substituted carbomoncycle and halogen substituted carbomonocycle.
P-13-0091 | 11/5/2012 | 2/2/2013 | Cray Valley USA, LLC | (G) Additive for rubber to improve properties | (G) Siloxane functional polybutadiene polymer.
P-13-0092 | 11/6/2012 | 2/3/2013 | CBI | (G) Adhesive for electrical industry use | (G) Latex polymer.
P-13-0093 | 11/8/2012 | 2/5/2013 | The Goodyear Tire & Rubber Co. Department 100D | (S) Precursor to polymerization catalyst | (S) Neodymium, butadiene iso-bu neodecanoate complexes.
P-13-0094 | 11/6/2012 | 2/3/2013 | CBI | (G) Additive for adhesives, pottings and sealants | (G) Acrylic ester functionalized polyether polymer.
P-13-0095 | 11/6/2012 | 2/3/2013 | Gelest, Inc. | (S) Further purified at one site; further purified material packaged and sent to end use for use in CVD LOWK dielectric barrier in microelectronic application. | (S) Silane, bicyclo[2.2.1]hept-2-yldiethoxymethyl-
P-13-0096 | 11/12/2012 | 2/9/2013 | Cytec Industries, Inc. | (G) Coating resin | (G) Alkenoic acid, reaction product with alkylpolyol, polymers with substituted heteromonocycle.
P-13-0097 | 11/9/2012 | 2/6/2013 | Shin ETSU Microsi | (G) Non combustible coating for non woven fabric for automobile air filters and carpet flooring materials | (G) Vinyl chloride emulsion (acrylic group emulsion type).
P-13-0098 | 11/12/2012 | 2/9/2013 | CBI | (G) An open, non-dispersive use | (G) Modified polyarylamide salt.
P-13-0099 | 11/13/2012 | 2/10/2013 | H.B. Fuller Company | (G) Industrial adhesive | (G) 1,4-benzenedicarboxylic acid, polymer with 2,2-dimethyl-1,3-propanediol, alkane diacid, 1,2-ethanediol, hexanedioic acid, alkanediol, .alpha.-hydro-.omega.-hydroxypoly[oxy(methyl-1,2-ethanediyl)], 1,3-isobenzofurandione, 1,1'-methylenebis[4-isocyanatobenzene], 2-oxepanone and 2,2'-oxybis[ethanol].
P-13-0100 | 11/13/2012 | 2/10/2013 | H.B. Fuller Company | (G) Industrial adhesive | (G) Alkane diacid, polymer with hexanedioic acid, alkanediol, .alpha.-hydro-.omega.-hydroxypoly[oxy(methyl-1,2-ethanediyl)], 1,3-isobenzofurandione, 1,1'-methylenebis[4-isocyanatobenzene], 2-oxepanone and 2,2'-oxybis[ethanol].
P-13-0101 | 11/13/2012 | 2/10/2013 | H.B. Fuller Company | (G) Industrial adhesive | (G) 1,3-benzenedicarboxylic acid, polymer with 1,4-benzenedicarboxylic acid, alkane diacid, 1,2-ethanediol, hexanedioic acid, alkanediol, .alpha.-hydro-.omega.-hydroxypoly[oxy(methyl-1,2-ethanediyl)], 1,3-isobenzofurandione, 1,1'-methylenebis[4-isocyanatobenzene], 2-oxepanone and 2,2'-oxybis[ethanol].
P-13-0102 | 11/13/2012 | 2/10/2013 | H.B. Fuller Company | (G) Industrial adhesive | (G) Alkane diacid, polymer with hexanedioic acid, alkanediol, .alpha.-hydro-.omega.-hydroxypoly[oxy(methyl-1,2-ethanediyl)], 1,1'-methylenebis[4-isocyanatobenzene], 2-oxepanone and .alpha.,.alpha.',.alpha.-1.
P-13-0103 | 11/13/2012 | 2/10/2013 | H.B. Fuller Company | (G) Industrial adhesive | (G) Alkane diacid, polymer with 2,2-dimethyl-1,3-propanediol, 1,2-ethanediol, hexanedioic acid, alkanediol, .alpha.-hydro-.omega.-hydroxypoly[oxy(methyl-1,2-ethanediyl)], 1,1'-methylenebis[4-isocyanatobenzene], and.alpha.,.alpha.',.alpha.-1.
P-13-0104 | 11/13/2012 | 2/10/2013 | H.B. Fuller Company | (G) Industrial adhesive | (G) Alkane diacid, polymer with 2,2-dimethyl-1,3-propanediol, 1,2-ethanediol, hexanedioic acid, alkanediol, .alpha.-hydro-.omega.-hydroxypoly[oxy(methyl-1,2-ethanediyl)], 1,3-isobenzofurandione, 1,1'-methylenebis[4-isocyanatobenzene], and 2,2'-oxybis[ethanol].
P-13-0105 | 11/13/2012 | 2/10/2013 | Sika Corporation | (G) Latent hardener for polyurethane roof membrane | (G) Latent hardener for polyurethane.
P-13-0106 | 11/9/2012 | 2/6/2013 | The Goodyear Tire & Rubber Company | (S) Precursor to polymerization catalyst | (G) Neodymium, Ziegler—Natta preformed stage 1 catalyst.
P-13-0107 | 11/14/2012 | 2/11/2013 | Trinity Manufacturing, Inc. | (S) Flame retardant for rubber products | (S) Alkanes, C22-30-branched and linear, chloro.
P-13-0108 | 11/14/2012 | 2/11/2013 | CBI | (S) Feed for a bromine recovery unit | (S) Bromine, manufacturer of, by-products from distant residues.
P-13-0109 | 11/14/2012 | 2/11/2013 | Trinity Manufacturing, Inc. | (S) Flame retardant in rubber products; extreme pressure additive in lubricants | (S) Alkanes, C24-28, chloro.
P-13-0110 | 11/14/2012 | 2/11/2013 | CBI | (G) Additive, open, non-dispersive use | (G) Hydroxyalkyl methacrylate, reaction product with cyclic ether.
P-13-0111 | 11/15/2012 | 2/12/2013 | CBI | (G) Additive, open, non-dispersive use | (G) Acrylfunctional polysiloxane, reaction product of alcohols with isocyanates.
P-13-0112 | 11/15/2012 | 2/12/2013 | CBI | (G) Additive, open, non-dispersive use | (G) Acrylfunctional polysiloxane, reaction product of alcohols with isocyanates.
P-13-0113 | 11/15/2012 | 2/12/2013 | CBI | (G) Additive, open, non-dispersive use | (G) Acrylfunctional polysiloxane, reaction product of alcohols with isocyanates.
P-13-0114 | 11/19/2012 | 2/16/2013 | CBI | (S) Reactant/intermediate for polymers and oligomers, polyesters, and other materials that might include personal care and pharmaceutical applications | (G) Sorbitan ester.
P-13-0115 | 11/20/2012 | 2/17/2013 | CBI | (G) Pigment dispersant | (G) Fatty acids of natural oils, conjugated, maleated, substituted phenoxyalkyl ester.
P-13-0116 | 11/20/2012 | 2/17/2013 | CBI | (G) Pigment dispersant | (G) Fatty acids of natural oils, conjugated, maleated, substituted phenoxyalkyl ester.
P-13-0117 | 11/20/2012 | 2/17/2013 | H.B. Fuller Company | (G) Industrial adhesive | (G) Vegetable oil, polymer with isocyanate.
P-13-0118 | 11/20/2012 | 2/17/2013 | CBI | (G) Industrial adhesive | (G) Vegetable oil, polymer with isocyanate and propanol, oxybis-.
P-13-0119 | 11/20/2012 | 2/17/2013 | CBI | (G) Polymer processing additive | (S) D-glucitol, 1,3:2,4-bis-o-[(4-ethylphenyl)methylene]-.
P-13-0120 | 11/20/2012 | 2/17/2013 | CBI | (S) Catalyst for use in polyurethane coatings | (G) Substituted dimethyltin.
P-13-0121 | 11/20/2012 | 2/17/2013 | CBI | (G) Polymeric colorant | (G) Substituted polymeric aromatic amine azo colorant.
P-13-0122 | 11/20/2012 | 2/17/2013 | CBI | (G) Packaging material | (G) Acetic acid ethenyl ester, copolymer, hydrolyzed.
P-13-0123 | 11/20/2012 | 2/17/2013 | CBI | (G) Additive, open, non-dispersive use | (G) Salt of acidic polymers with monomeric and polymeric bases.
P-13-0124 | 11/20/2012 | 2/17/2013 | DIC International (USA) LLC | (G) Polymer for coating | (G) Coating polymer.
P-13-0125 | 11/20/2012 | 2/17/2013 | Soane Energy LLC | (G) Used in the upstream oil and gas industry | (S) Poly(oxy-1,2-ethanediyl), .alpha.-hydro-.omega.-hydroxy-, hydrogen 2-C15-20-alkenylbutanediotes.
P-13-0126 | 11/20/2012 | 2/17/2013 | Soane Energy LLC | (G) Used in the upstream oil and gas industry | (S) Poly(oxy-1,2-ethanediyl), .alpha.-hydro-.omega.-hydroxy-, hydrogen 2-C15-20-alkenylbutanediotes, sodium salts.
P-13-0127 | 11/20/2012 | 2/17/2013 | Miwon North America, Inc. | (S) Resin for industrial coating | (G) Monofunctional acrylate.
P-13-0128 | 11/21/2012 | 2/18/2013 | CBI | (G) Additive, open, non-dispersive use | (G) Polyether modified potassium polystyrene maleate.
P-13-0129 | 11/21/2012 | 2/18/2013 | CBI | (G) Additive, open, non-dispersive use | (G) Polyether modified fatty acid dimmer.
P-13-0130 | 11/20/2012 | 2/17/2013 | CBI | (G) Flow improver for oilfield applications | (G) Formaldehyde, polymer with alklyphenols.
P-13-0131 | 11/26/2012 | 2/23/2013 | CBI | (G) Inhibitor for oil field applications | (G) Tertiary ammonium compound.
P-13-0132 | 11/26/2012 | 2/23/2013 | Euticals, Inc. | (S) Monomer intermediate for use in the manufacture of a polymer | (S) Boronic acid, b-[3-[(1-oxo-2-propen-1-yl)amino]phenyl]-.
P-13-0133 | 11/27/2012 | 2/24/2013 | CBI | (G) Catalyst for silicone polymerization | (G) Dichlorophosphazene oligomers.
P-13-0134 | 11/27/2012 | 2/24/2013 | CBI | (G) Catalyst for silicone polymerization | (G) Partially hydrolyzed dichlorophosphazene oligomers.
P-13-0135 | 11/26/2012 | 2/23/2013 | Euticals, Inc. | (S) Intermediate monomer for use in the manufacture of another monomer | (G) Substituted benzenamine.
P-13-0136 | 11/28/2012 | 2/25/2013 | Sika Corporation | (G) Roof membrane hardener | (G) Latent hardener for polyurethane.
P-13-0137 | 11/28/2012 | 2/25/2013 | CBI | (G) Chemical additive | (S) Butanedioic acid, 2-(2-octen-1-yl)-.
P-13-0138 | 11/28/2012 | 2/25/2013 | CBI | (G) Textile processing additive | (S) Butanedioic acid, 2-(2-octen-1-yl)-, potassium salt (1:2).
P-13-0139 | 11/28/2012 | 2/25/2013 | CBI | (G) Gasoline additive | (G) Fatty acids, alkyl-unsaturated, esters with polyol.
P-13-0140 | 11/29/2012 | 2/26/2013 | CBI | (G) Solvent | (S) Pentanoic acid, 5-(dimethylamino)-2-methyl-5-oxo-, methyl ester.
P-13-0141 | 11/29/2012 | 2/26/2013 | Dow Chemical Company | (S) Hardener for epoxy thermosetting coatings | (G) Alkyl amines polymer with polyglycol ether, and bis a epoxy reaction products with aromatic epoxies.
P-13-0142 | 11/30/2012 | 2/27/2013 | Scott Bader, Inc. | (G) Fabrication of composite articles | (G) Unsaturated urethane methacrylate.

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II— 3 TMEs Received From 11/1/12 to 11/30/12
Case No. | Received date | Projected notice end date | Manufacturer/importer | Use | Chemical
T-13-0002 | 11/1/2012 | 12/15/2012 | Cytec Industries, Inc. | (G) Resin for non-dispersive use | (G) Alkenenitrile, polymer with alkadiene, substituted alkyl-terminated, polymers with substituted carbonomocycles, alkoxy-terminated-substituted alkyl-alkadiene polymer, substituted carbomonocycle and halogen substituted carbomonocycle.
T-13-0003 | 11/12/2012 | 12/26/2012 | Cytec Industries, Inc. | (G) Coating resin | (G) Alkenoic acid, reaction product with alkylpolyol, polymers with substituted heteromonocycle.
T-13-0004 | 11/26/2012 | 1/9/2013 | CBI | (G) Inhibitor for oil field applications | (G) Tertiary ammonium compound.

In Table III. of this unit, EPA provides the following information (to the extent that such information is not claimed as CBI) on the NOCs received by EPA during this period: The EPA case number assigned to the NOC, the date the NOC was received by EPA, the projected end date for EPA's review of the NOC, and chemical identity.

Table III—32 NOCs Received From 11/1/12 to 11/30/12
Case No. | Received date | Commencement notice end date | Chemical
J-12-0004 | 11/5/2012 | 10/25/2012 | (G) Saccharomyces cerevisiae, strain CBI.
P-07-0101 | 11/20/2012 | 5/7/2008 | (G) Alkoxylate polymer.
P-08-0654 | 11/20/2012 | 3/1/2009 | (G) Fatty acids, C18-unsaturated., dimers, polymers with diamines and monoacids.
P-09-0106 | 11/27/2012 | 11/14/2012 | (G) Fatty acids, tall-oil, reaction products with modified fatty acids and polyalkanolamines, hydrochlorides.
P-09-0107 | 11/1/2012 | 10/4/2012 | (G) Fatty acids, tall-oil, reaction products with modified fatty acids and polyalkanolamines.
P-09-0263 | 11/14/2012 | 10/24/2012 | (S) 4-dodecenenitrile, (4z)-.
P-10-0014 | 11/26/2012 | 11/15/2012 | (G) Quino[2,3-b]acridine-7, 14-dione, 2,9-dichloro-5, 12-dihydro[4-[[2-(sulfooxy)ethyl]substituted]phenyl]-,sodium salt (1:1).
P-10-0560 | 11/13/2012 | 10/4/2012 | (G) Silyl-modified polymer.
P-10-0561 | 11/19/2012 | 10/4/2012 | (G) Silyl-modified polymer.
P-11-0016 | 11/20/2012 | 11/1/2012 | (G) Adipic acid, polymer with benzenepolycarboxylic acids, polyakylene glycol, alkanediols, 1,1'-methylenebis[isocyanatobenzene] and a substituted-, trialkoxysilane.
P-11-0368 | 11/20/2012 | 8/11/2011 | (G) Ipdi modified polyester resin.
P-11-0557 | 11/27/2012 | 11/2/2012 | (G) 2-propenoic acid, 2-methyl-, 2-hydroxyethyl ester, telomers with C18-26 alkyl acrylate, 1-dodecanthiol, N-(hydroxymethyl)-2-methyl-2-propenamide, polyfluorooctyl methacrylate and vinylidene chloride, 2,2'-[1,2-diazenediylbis(1-methylethylidene)]-bis[4,5-dihydro-1H-imidazole]hydrochloride (1:2)-initiated.
P-12-0044 | 11/30/2012 | 11/1/2012 | (G) Multi-wall carbon nanotubes.
P-12-0143 | 11/14/2012 | 11/2/2012 | (G) Poly(oxy-1,4-butanediyl), -hydro-hydroxy-, polymer with alkyldisocyanates.
P-12-0152 | 11/13/2012 | 10/31/2012 | (G) Ester substituted bicyclic olefin.
P-12-0174 | 11/28/2012 | 11/7/2012 | (G) Polyurethane.
P-12-0246 | 11/19/2012 | 11/7/2012 | (G) Methyl, phenyl, amino-functional siloxanes and silsesquixane.
P-12-0247 | 11/20/2012 | 10/10/2012 | (G) Alkyl carboxylic acid, oxiranyl alkyl ester, polymer with cycloalkyl dicarboxylic acid anhydride, alkyl alcohol ester.
P-12-0248 | 11/20/2012 | 11/1/2012 | (G) Polyester type polyurethane resin.
P-12-0272 | 11/6/2012 | 11/2/2012 | (S) 1,3-benzenedicarboylic acid, polymer with 1,4-benzenedicarboxylic acid,2,2-dimethyl-1,3-propanediol, dodecanedioic acid, 1,2-ethanediol, hexanedioic acid, 1,6-hexanediol, .alpha.-hydroxy-.omega.-hydroxypoly[oxy(methyl-1,2-ethanediyl)] and 1,1'-methylenebis[4-isocyanatobenzene].
P-12-0340 | 11/2/2012 | 10/23/2012 | (G) Reaction product of bisphenol a diglycidyl ether and an amineterminated cycloaliphatic propoxylate.
P-12-0363 | 11/6/2012 | 10/27/2012 | (G) Alkylcarboxyalkenyl polymer with carboxyalkenyl dihydroxyalkylate, carboxyalkenyl and alkylalkenyl sulfonate sodium salt.
P-12-0381 | 11/26/2012 | 10/28/2012 | (G) Amido amine polyether polymer.
P-12-0447 | 11/9/2012 | 11/7/2012 | (G) Hydrophobic modified acrylic swellable emulsion.
P-12-0476 | 11/6/2012 | 10/29/2012 | (G) Aromatic polyester polyether polyol.
P-12-0482 | 11/27/2012 | 11/21/2012 | (S) Flue dust, automotive metal recovery; definition: Flue dust collected from the hot gases released from a cupola furnace during a metal recovery process used by the automotive industry composed primarily of oxides of zinc, iron, manganese, aluminum, and silicon.
P-12-0483 | 11/2/2012 | 11/1/2012 | (G) Siloxanes and silicones, substituted alkyl group-terminated, ethoxylated, polymers with 5-isocyanato-1-(isocyanatomethyl)-,1,3,3-trimethylcyclohexane and N-alkyl glycol, hydroxyethyl methacrylate-blocked.
P-12-0501 | 11/9/2012 | 11/8/2012 | (S) Slimes and sludges, automotive phosphate conversion coating wastewater definition: The waste solution produced during the zinc phosphate conversion coating process of automobiles. It may contain oxides of iron, calcium, aluminum, zinc, nickel and magnesium.
P-12-0507 | 11/27/2012 | 11/16/2012 | (G) Poly(oxyalkylene) alkylamine.
P-12-0511 | 11/20/2012 | 11/16/2012 | (G) Poly(oxyalkylene) alkylamine.
P-12-0515 | 11/20/2012 | 11/19/2012 | (G) Polycarboxylic acids, polymer with polyols.
P-12-0517 | 11/20/2012 | 11/19/2012 | (G) Polycarboxylic acids, polymer with polyols.

If you are interested in information that is not included in these tables, you may contact EPA as described in Unit II. to access additional non-CBI information that may be available.

List of Subjects

Environmental protection, Chemicals, Hazardous substances, Imports, Notice of commencement, Premanufacturer, Reporting and recordkeeping requirements, Test marketing exemptions.

Dated: December 10, 2012.
Chandler Sirmons,
Acting Director, Information Management Division, Office of Pollution Prevention and Toxics.

[FR Doc. 2012-31063 Filed 12-21-12; 4:15 pm]

BILLING CODE 6560-50-P